DEPARTMENT OF THE INTERIOR

Bureau of Ocean Energy Management

[MMAA104000]

Draft Programmatic Environmental Impact Statement for the Outer Continental Shelf (OCS) Oil and Gas Leasing Program: 2017-2022

AGENCY: Bureau of Ocean Energy Management (BOEM), Interior.

ACTION: Notice of availability.

SUMMARY: Pursuant to the National Environmental Policy Act (NEPA), BOEM announces the availability of the OCS Oil and Gas Leasing Program 2017-2022 Draft Programmatic Environmental Impact Statement (Programmatic EIS) prepared by BOEM to support the Proposed OCS Oil and Gas Leasing Program for 2017-2022. This notice initiates the public review and comment period and also serves to announce public meetings on the Draft Programmatic EIS. After the public meetings and written comments on the Draft Programmatic EIS have been reviewed and considered, a Final Programmatic EIS will be prepared.

DATES: Comments must be submitted on or before May 2, 2016. See public meeting dates in the SUPPLEMENTARY INFORMATION below.

FOR FURTHER INFORMATION CONTACT: Jill Lewandowski, Ph.D., Bureau of Ocean Energy Management, 45600 Woodland Road VAM-OEP, Sterling, VA 20166; Dr. Lewandowski may also be reached by telephone at (703) 787-1703.

SUPPLEMENTARY INFORMATION: This Draft Programmatic EIS analyzes the potential for environmental impacts related to the establishment of a proposed lease sale schedule during the years 2017 to 2022. The Council on Environmental Quality (CEQ) regulations (40 CFR 1502.4(b)) recommend analyzing the effects of broad programs, such as the 2017-2022 OCS Oil and Gas Program within a single programmatic EIS.

Programmatic EIS Availability: Persons interested in reviewing the 2017-2022 OCS Oil and Gas Leasing Program Draft Programmatic EIS, OCS EIS/EA BOEM 2016-001 can download it on the Internet at www.boemoceaninfo.com, or may contact BOEM at the address provided above to request a paper copy or a CD/ROM version. Please specify if you wish a CD/ROM or paper copy. If neither is specified, a CD/ROM containing the Draft Programmatic EIS will be provided.

Library Availability: The Draft Programmatic EIS will also be available for review at libraries in states adjacent to the proposed lease sales. These libraries are listed at the Web site www.boemoceaninfo.com.

Written Comments: Comments may be submitted online through www.regulations.gov. Please insert “BOEM-2016-0002” into the search box. Written comments may also be submitted via mail to Dr. Jill K. Lewandowski at the address provided above. Comments delivered via mail should be labeled “Attn: 2017-2022 OCS Oil and Gas Leasing Program Draft Programmatic EIS.”

Before including your address, phone number, email address, or other personal identifying information in your comment, you should be aware that your entire comment—including your personal identifying information—may be made publicly available at any time. While you can ask us in your comment to withhold your personal identifying information from public review, we cannot guarantee that we will be able to do so. We will not consider anonymous comments.

Public Meetings: Thirteen public meetings will be held from March 29, 2016, through April 14, 2016, to obtain comments on the 2017-2022 OCS Oil and Gas Leasing Program Draft Programmatic EIS. Meetings in Washington, DC, Houston, TX, New Orleans, LA and Anchorage, AK, will be open house style meetings and will be held from 3:00 to 7:00 p.m. local time, except for New Orleans where the meeting will be held from 2:00 to 6:00 p.m. local time. At most of the other Alaska locations, meetings will be held from 7:00 to 10:00 p.m. local time in a facilitated group format, except for Point Lay which will occur from 3:00 to 6:00 p.m. local time. The Fairbanks and Barrow meetings will be held in a hybrid open house/facilitated group format. Meetings will be held on the following dates and at the following locations.

Washington, DC

• April 4, 2016; Marriott Metro Center, 775 12th St. NW., Washington, DC 3-7 p.m.; valet parking at no charge to meeting attendees up to 8 hours.

Alaska

• March 29, 2016; Kaktovik Community Center, 2051 Barter Avenue, Kaktovik, Alaska; 7-10 p.m.

○ March 29, 2016; Northwest Arctic Borough Assembly Chambers, 163 Lagoon Street, Kotzebue, Alaska; 7-10 p.m.

○ March 30, 2016, Inupiat Heritage Center, 5421 North Star Street, Barrow, Alaska; 7-10 p.m.

○ March 30, 2016; Kisik Community Center, 2230 2nd Avenue, Nuiqsut, Alaska; 7-10 p.m.

○ March 31, 2016; Kali School, 1029 Qasigiakik Street, Point Lay, Alaska; 3-6 p.m.

○ March 31, 2016; City Qalgi Center, Point Hope, Alaska; 7-10 p.m.

○ March 31, 2016; R. James Community Center, Wainwright, Alaska; 7-10 p.m.

○ April 4, 2016; Morris Thompson Cultural & Visitors Center, 101 Dunkel Street, Fairbanks, Alaska; 7-10 p.m.

○ April 5, 2016; Embassy Suites, 600 East Benson Boulevard, Anchorage, Alaska; 3-7 p.m.; free parking.

○ April 6, 2016, Ninilchik School, 15735 Sterling Highway, Ninilchik, Alaska; 7-10 p.m.

Gulf of Mexico

○ April 12, 2016; Hyatt Regency Houston, 1200 Louisiana Street, Houston, Texas; 3-7 p.m.; validated valet parking at hotel.

○ April 14, 2016; 1201 Elmwood Park Boulevard, New Orleans, Louisiana; 2-6 p.m.; free parking.

Dated: March 8, 2016.
Abigail Ross Hopper,
Director, Bureau of Ocean Energy Management.

[FR Doc. 2016-06110 Filed 3-17-16; 8:45 am]

BILLING CODE 4310-MR-P